FEDERAL COMMUNICATIONS COMMISSION

Sunshine Act Meeting; Open Commission Meeting; Wednesday, November 18, 2009

Date: November 10, 2009.

The Federal Communications Commission will hold an Open Meeting on the subjects listed below on Wednesday, November 18, 2009, which is scheduled to commence at 10 a.m. in room TW-C305, at 445 12th Street, SW., Washington, DC.

The meeting will also include a presentation on the status of the Commission's processes for development of a National Broadband Plan and an analysis of the major gaps in broadband in America.

ITEM NO. | BUREAU | SUBJECT
| WIRELESS TELE-COMMUNICATIONS | TITLE: In the Matter of Petition for Declaratory Ruling to Clarify Provisions of Section 332(c)(7)(B) to Ensure Timely Siting Review and to Preempt Under Section 253 State and Local Ordinances that Classify All Wireless Siting Proposals as Requiring a Variance (WT Docket No. 08-165) SUMMARY: The Commission will consider a Petition for Declaratory Ruling which requests that the Commission establish timeframes for State and local zoning authorities to consider wireless facilities siting applications.

The meeting site is fully accessible to people using wheelchairs or mobility aids. Sign language interpreters, open captioning, and assistive listening devices will be provided on site. Other reasonable accommodations for people with disability are available upon request. Include a description of the accommodation you will need including as much detail as you can. In addition, include a way we can contact you if we need more information. Make your request as early as possible; please allow at least 5 days advance notice. Last minute request will be accepted, but may be impossible to fill. Send an e-mail to: fcc504@fcc.gov or call the Consumer & Government Affairs Bureau at 202-418-0530 (voice), 202-418-0432 (tty).

Additional information concerning this meeting may be obtained from Audrey Spivack or David Fisk, Office of Media Relations, 202-418-0500; TTY 1-888-835-5322. Audio/Video coverage of the meeting will be broadcasted live with open captioning over Internet from the FCC Audio/Video Events web page at http://www.fcc.gov/realaudio.

For a fee this meeting can be viewed live over George Mason University's Capital Connection. The Capital Connection also will carry the meeting live via the Internet. To purchase these services, call 703-993-3100 or go to http://www.capitalconnection.gmu.edu.

Copies of material adopted at this meeting can be purchased from the FCC's duplicating contractor, Best Copy and Printing, Inc., 202-488-5300; Fax 202-488-5563; TTY 202-488-5562. These copies are available in paper format and alternative media, including large print/type; digital disk; and audio and video tape. Best Copy and Printing, Inc. may be reached by e-mail at FCC@BCPIWEB.com.

Federal Communications Commission.
Marlene H. Dortch,
Secretary, Office of the Secretary, Office of Managing Director.

[FR Doc. E9-27599 Filed 11-13-09; 11:15 am]

BILLING CODE 6712-01-S